DEPARTMENT OF COMMERCE

National Oceanic and Atmospheric Administration

50 CFR Part 648

[Docket No: 210325-0071; RTID 0648-XA993]

Fisheries of the Northeastern United States; Atlantic Herring Fishery; 2021 Management Area 3 Sub-Annual Catch Limit Harvested

AGENCY: National Marine Fisheries Service (NMFS), National Oceanic and Atmospheric Administration (NOAA), Commerce.

ACTION: Temporary rule; closure.

SUMMARY: NMFS is closing the directed fishery for Management Area 3. This closure is required because NMFS projects 98 percent of the catch allotted to Management Area 3 has been caught. This action is intended to prevent or limit the overharvest of Atlantic herring in Management Area 3, which would result in additional quota reductions next year.

DATES: Effective 00:01 hr local time, April 1, 2021, through 24:00 local time, December 31, 2021.

FOR FURTHER INFORMATION CONTACT: Lou Forristall, Fishery Management Specialist, (978) 281-9321.

SUPPLEMENTARY INFORMATION: The Regional Administrator for the Greater Atlantic Region monitors Atlantic herring fishery catch in each of the management areas based on vessel and dealer reports, state data, and other available information. The regulations at 50 CFR 648.201(a)(1)(i)(B)(2) require that the Regional Administrator prohibits federally permitted vessels from fishing for, possessing, transferring, receiving, landing, or selling more than 2,000 pounds (lb) (907.2 kilograms (kg)) in or from Atlantic herring Management Area 3 when 98 percent of the sub-Annual Catch Limit (ACL) is harvested. Based on dealer reports, state data, and other available information, the Regional Administrator projects that 98 percent of the Management Area 3 sub-ACL was harvested as of April 1, 2021. Therefore, effective 00:01 hr local time April 1, 2021, vessels may not fish for, possess, transfer, receive, land, or sell more than 2,000 lb (907.2 kg) of Atlantic herring per trip or calendar day, in or from Management Area 3, through December 31, 2021. Vessels that have entered port before 00:01 hr local time, April 1, 2021, may land or sell more than 2,000 lb (907.2 kg) of Atlantic herring from Area 3 from that trip. A vessel may transit through Area 3 with more than 2,000 lb (907.2 kg) of Atlantic herring on board, provided all herring was caught outside Area 3 and all fishing gear is stowed and not available for immediate use as defined by 50 CFR 648.2. All herring vessels must land in accordance with state landing restrictions.

Effective 00:01 hr local time, April 1, 2021, through 24:00 hr local time, December 31, 2021, federally permitted dealers may not purchase, possess, have custody or control of, sell, barter, trade or transfer, or attempt to sell, barter, trade, or transfer more than 2,000 lb of herring per vessel per trip or calendar day from Management Area 3 through 24:00 hr local time, December 31, 2021, unless it is from a vessel that enters port before 00:01 local time on April 1, 2021.

Classification

This action is required by 50 CFR 648.201(a)(1)(i)(B) and is exempt from review under Executive Order 12866.

NMFS finds good cause pursuant to 5 U.S.C. 553(b)(3)(B) to waive prior notice and the opportunity for public comment because it would be contrary to the public interest and impracticable. NMFS also finds good cause to waive the 30-day delayed effectiveness in accordance with 5 U.S.C 553(d)(3). NMFS is required by Federal regulation to implement a 2,000 lb (907.2 kg) herring trip limit for Management Area 3, when 98 percent of the area quota is projected to be harvested. The 2021 herring fishing year opened on January 1, 2021, and Management Area 3 opened to fishing on that day. Data indicating the herring fleet will have landed at least 98 percent of the 2021 sub-ACL allocated to Management Area 3 only recently became available. High-volume catch and landings in this fishery increase total catch relative to the sub-ACL quickly, especially in this fishing year where annual catch limits are unusually low. If implementation of this closure is delayed to solicit prior public comment, the sub-ACL for Management Area 3 for this fishing year will likely be exceeded, undermining conservation objectives of the Fishery Management Plan. When sub-ACLs are exceeded, the overage must be deducted from a future sub-ACL and would reduce future fishing opportunities. In addition, the public had prior notice and full opportunity to comment on this process when these provisions were put in place.

The public expects these actions to occur in a timely way consistent with the fishery management plan's objectives.

Authority: 16 U.S.C. 1801 et seq.

Dated: March 31, 2021.
Jennifer M. Wallace,
Acting Director, Office of Sustainable Fisheries, National Marine Fisheries Service.

[FR Doc. 2021-06958 Filed 3-31-21; 4:15 pm]

BILLING CODE 3510-22-P